DEPARTMENT OF HEALTH AND HUMAN SERVICES

Administration on Aging

Agency Information Collection Activities; Submission for OMB Review; Comment Request; AoA Uniform Project Description

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by April 14, 2004.

ADDRESSES: Submit written comments on the collection of information by fax (202) 395.6974 or by mail to the Office of Information and Regulatory Affairs, OMB, New Executive Office Bldg., 725 17th St. NW., rm. 10235, Washington, DC 20503, Attn: Brenda Aguilar, Desk Officer for AoA.

FOR FURTHER INFORMATION CONTACT: Margaret Tolson, (202) 357-3440, margaret.tolson@aoa.gov.

SUPPLEMENTARY INFORMATION: In compliance with 44 U.S.C. 3507, AoA has submitted the following proposed collection of information to OMB for review and clearance.

The proposed collection relates to discretionary grant applicants' project description and budget justification information necessary to issue AoA discretionary grants. The information is used to evaluate if applications are eligible for funding and further used during the grant review process. The respondents are organizations that choose to apply for an AoA discretionary grant. AoA estimates the burden of this collection of information as follows: 500 responses/year; 5,000 hours/year.

Dated: March 10, 2004.
Josefina G. Carbonell,
Assistant Secretary for Aging.

[FR Doc. 04-5791 Filed 3-12-04; 8:45 am]

BILLING CODE 4154-01-P